DEPARTMENT OF EDUCATION

[Docket No.: ED-2023-SCC-0114]

Agency Information Collection Activities; Submission to the Office of Management and Budget for Review and Approval; Comment Request; Evaluation of the Professional Learning Resources of the REL NW Toolkit for Using Technology To Support Postsecondary Student Learning

AGENCY: Institute of Education Sciences (IES), Department of Education (ED).

ACTION: Notice.

SUMMARY: In accordance with the Paperwork Reduction Act (PRA) of 1995, the Department is proposing a new information collection request (ICR).

DATES: Interested persons are invited to submit comments on or before October 30, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Heidi Gansen, 202-245-6765.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of the Professional Learning Resources of the REL NW Toolkit for Using Technology to Support Postsecondary Student Learning.

OMB Control Number: 1850-NEW.

Type of Review: A new ICR.

Respondents/Affected Public: Individuals and Households.

Total Estimated Number of Annual Responses: 13,177.

Total Estimated Number of Annual Burden Hours: 1,280.

Abstract: The current authorization for the Regional Educational Laboratories (REL) program is under the Education Sciences Reform Act of 2002, part D, section 174, (20 U.S.C. 9564), administered by the Department of Education, Institute of Education Sciences (IES), National Center for Education Evaluation and Regional Assistance (NCEE). The central mission and primary function of the RELs is to support applied research and provide technical assistance to state and local education agencies within their region (ESRA, part D, section 174[f]). The REL program's goal is to partner with educators and policymakers to conduct work that is change-oriented and supports meaningful local, regional, or state decisions about education policies, programs, and practices to improve outcomes for students.

The Regional Educational Laboratory Northwest is developing a toolkit based on the Using Technology to Support Postsecondary Student Learning What Works Clearinghouse (WWC) Practice Guide to support student learning in community college contexts. Community college instructors, across all disciplines, including those who teach in person, hybrid (remote and in person), and online courses, are the primary audience for the Toolkit.

This toolkit's efficacy evaluation will collect information about the professional learning resources, organized as the eAcademy: Professional Learning for Using Technology to Enhance Learning, that will comprise the main component of the Toolkit. In the efficacy study, the eAcademy will be offered to instructors in community colleges in Oregon. The evaluation of the eAcademy includes two parts: first, using a random assignment design, researchers will examine the impact of the eAcademy on instructor knowledge, teaching practices, and student outcomes. Second, researchers will collect implementation data to understand fidelity of implementation, treatment contrast, and how the eAcademy influences instructor and student outcomes.

The research questions include: What is the impact of the eAcademy on instructors' awareness of technology tools for learning, knowledge of how to use technology for learning, and comfort using education technologies to support student learning, what is the impact of the eAcademy on instructors' use of technology to support student learning, and what is the impact of the eAcademy on student engagement, interaction, course completion, and persistence to the next quarter?

The goals of the program evaluation include documenting the content of eAcademy (topics covered and activities provided), the way the eAcademy is implemented, and the treatment dosage to understand fidelity of implementation. The evaluation study will provide further insight into how the eAcademy is related to instructor- and student-level outcomes, and the implementation study will document treatment contrast between the eAcademy and other available professional resources. eAcademy participation data will be used to affirm whether instructors in the treatment group accessed the professional resources and instructors in the control group did not.

Findings from the implementation study may be used to improve future iterations of the eAcademy and to update the WWC Practice Guide recommendations. They may also generate ideas for new approaches to professional development that lead to better outcomes.

Dated: September 26, 2023.
Stephanie Valentine,
PRA Coordinator, Strategic Collections and Clearance, Governance and Strategy Division, Office of Chief Data Officer, Office of Planning, Evaluation and Policy Development.

[FR Doc. 2023-21536 Filed 9-28-23; 8:45 am]

BILLING CODE 4000-01-P